DEPARTMENT OF AGRICULTURE

Rural Business-Cooperative Service

Inviting Applications for Rural Business Opportunity Grants

AGENCY: Rural Business-Cooperative Service, USDA.

ACTION: Notice of Funding Availability (NOFA).

SUMMARY: USDA announces the availability of grants through the Rural Business Opportunity Grant Program (RBOG) for Fiscal Year (FY) 2013. Public bodies, nonprofit corporations, institutions of higher education, Indian tribes on Federal or State reservations and other Federally Recognized Native American Tribes or tribal groups, and rural cooperatives may apply. Approximately $2.6 million is available in reserved and unreserved funding and will be distributed as follows: $919,820 is reserved for projects benefitting Federally Recognized Native American Tribes (“Native American”) in rural areas; $919,820 is reserved until June 30, 2013 for projects benefitting Rural Economic Area Partnerships (“Partnerships”); and $790,303 is unreserved. Any Partnership funds unobligated after June 30, 2013, will be added to the unreserved funds. Applications, including those for multi-state projects, are limited to $100,000 or less. See 7 CFR part 4284, subpart G.

DATES: Complete applications must be submitted on paper or electronically according to the following deadlines:

Paper applications must be postmarked and mailed, shipped, or sent overnight no later than June 28, 2013, to be eligible for FY 2013 grant funding. An applicant may also hand carry their application to Rural Development field office, but it must be received by close of business on the deadline date. Please note that if you are applying for Partnership funds, your application must be received prior to the June 30, 2013, reservation of funds deadline date. Late applications are not eligible for FY 2013 grant funding.

If you would like to submit an electronic application, you must follow the instructions for the RBOG funding announcement on www.grants.gov. If you would like to submit an electronic application, your application must be received by http://www.grants.gov no later than midnight eastern time June 24, 2013, to be eligible for FY 2013 grant funding. Please note that if you are applying for Partnership funds, your application must be received prior to the June 30, 2013, reservation of funds deadline date. You should review the Grants.gov Web site at http://grants.gov/applicants/organization_registration.jsp for instructions on the process of registering your organization as soon as possible to ensure that you are able to meet the electronic application deadline.

If you do not meet the deadline for submitting an electronic application, you may submit a paper application by the deadline as discussed above. Late applications will not be eligible for FY 2013 grant funding.

ADDRESSES: You should contact a Rural Development State Office if you have questions or need a copy of the application forms. Applications may be submitted in electronic or paper format. If you submit an electronic application, you must follow the instructions for the RBOG funding announcement on www.grants.gov. If you want to submit a paper application, the application should be sent to the State Office located in the State where the project is located. In the case of a multi-state project, you must submit your application to the Rural Development State Office located in the State where the majority of the work will be conducted. You can find the address for your Rural Development State Office at: http://www.rurdev.usda.gov/StateOfficeAddresses.html.

FOR FURTHER INFORMATION CONTACT: Office of the Deputy Administrator, Cooperative Programs, Rural Business-Cooperative Service, United States Department of Agriculture, 1400 Independence Avenue SW., MS-3250, Room 4016-South, Washington, DC 20250-3250, (202) 720-7558.

SUPPLEMENTARY INFORMATION:

Overview

Federal Agency: Rural Business-Cooperative Service (RBS).

Funding Opportunity Type: Rural Business Opportunity Grants.

Announcement Type: Funding Announcement.

Catalog of Federal Domestic Assistance Number: 10.773.

Dates: Application Deadline: To be eligible for FY 2013 funding, complete applications must be submitted on paper or electronically according to the following deadlines:

Paper applications must be postmarked and mailed, shipped, or sent overnight no later than June 28, 2013, to be eligible for FY 2013 grant funding. An applicant may also hand carry your application to one of Rural Development's field offices, but it must be received by close of business on the deadline date. Please note that if you are applying for Partnership funds, your application must be received prior to the June 30, 2013, reservation of funds deadline date. Late applications are not eligible for FY 2013 grant funding.

Electronic copies must be received by http://www.grants.gov no later than midnight eastern time June 24, 2013, to be eligible for FY 2013 grant funding. Please note that if you are applying for Partnership funds, your application must be received prior to the June 30, 2013, reservation of funds deadline date. Please review the Grants.gov Web site at http://grants.gov/applicants/organization_registration.jsp for instructions on the process of registering the applicant's organization as soon as possible to ensure that the applicant is able to meet the electronic application deadline.

If you do not meet the deadline for submitting an electronic application, you may submit a paper application by the deadline as discussed above. Late applications will not be eligible for FY 2013 grant funding.

I. Funding Opportunity Description

The RBOG program is authorized under section 306(a)(11) of the Consolidated Farm and Rural Development Act (CONACT) (7 U.S.C. 1926(a)(11)).

The primary objective of the program is to improve the economic conditions of rural areas. Assistance provided to rural areas under this program includes the following:

• Rural business incubators

• Technology-based economic development

• Feasibility studies and business plans

• Long-term business strategic planning

• Leadership and entrepreneur training

In addition, we are encouraging applications that will support regional economic development.

Investing in Manufacturing Communities Partnership

Rural Development is participating in the Investing in Manufacturing Communities Partnership (IMCP), which is a new Administration-wide initiative that will accelerate the resurgence of manufacturing and help cultivate an environment for businesses to create well-paying manufacturing jobs in regions across the country. The IMCP is designed to reward communities that demonstrate best practices in attracting and expanding manufacturing by using long-term planning that integrates targeted investments in workforce training, infrastructure, research, and other key assets.

The IMCP is being initiated in FY 2013 as EDA, USDA, SBA and EPA each provide funding for regional implementation strategy grants. The agencies will allocate funding through existing programs to advance this critical national priority. Strategies developed by these grants, as well as existing strategies and those otherwise under development, will enhance regions' efforts to compete for future proposed large scale IMCP grants (10 to 100 times the size of the implementation strategy grants). These grants will be given to communities with the best strategies for attracting private investment. IMCP partner agencies will coordinate funding across agencies in order to leverage complementary activities while also preventing duplication of efforts. Specific information on how applicants can participate in IMCP can be found at Section V.10 of this Notice.

Definitions

The terms you need to know are published at 7 CFR 4284.3 and 4284.603.

II. Award Information

Type of Award: Grant.

Fiscal Year Funds: FY 2013.

Total Funding: $2.8 million distributed as follows: $919,820 is reserved for projects benefitting Native Americans in rural areas; $919,820 is reserved until June 30, 2013, for projects benefitting Partnerships; and $790,303 is unreserved. Any Partnership funds unobligated after June 30, 2013, will be added to the unreserved funds.

Maximum Award: $100,000.

Anticipated Award Date: September 30, 2013.

III. Eligibility Information

A. Eligible Applicants

Grants may be made to public bodies, nonprofit corporations, institutions of higher education, Indian tribes on Federal or State reservations and other Federally recognized tribal groups, and cooperatives with members that are primarily rural residents.

You must obtain a Dun and Bradstreet Data Universal Numbering System (DUNS) number (see Section IV.B.) and register in the System for Awards Management (SAM, formerly managed by the Central Contractor Registry (CCR)) prior to submitting an application. (See 2 CFR 25.200(b).) In addition, you must maintain your registration in SAM during the time your application is active. Finally, you must have the necessary processes and systems in place to comply with the reporting requirements in 2 CFR 170.200(b), as long as you are not exempted from reporting. Exemptions are identified at 2 CFR 170.110(b).

For additional information on applicant eligibility, see 7 CFR 4284.620.

B. Cost Sharing or Matching

Matching funds are not required.

C. Other Eligibility Requirements

An application must propose to use project funds, including grant and other contributions committed under the evaluation criterion located at 7 CFR 4284.639(c), for eligible purposes (see 7 CFR 4284.621). Also, the proposed project must benefit a rural area; thus, all ultimate recipients of services provided through the project must either reside in a rural area (if an individual) or be located in a rural area (if a business).

Project funds cannot be used for construction, planning a facility, engineering work, or revolving loan funds. See 7 CFR 4284.10 and 4284.629 for more information on ineligible uses of funds. However, if you include funds in your budget that are for ineligible purposes, we will consider the application for funding if the ineligible purposes total 10 percent or less of an applicant's total project budget. However, if the application is successful, those ineligible costs must be removed before we will make the grant award. If we cannot determine the percentage of ineligible costs, the application will not be considered for funding.

Finally, if you have an existing RBOG award, you must be performing satisfactorily to be considered eligible for a new award. Satisfactory performance includes, but is not limited to, being up-to-date on all financial and performance reports and being current on all tasks as approved in the work plan.

D. Completeness Eligibility

An application will not be considered for funding if it does not provide sufficient information to determine eligibility or is missing required elements. In particular, you must include a project budget that identifies each task to be performed, along with the time period of performance for each task, and the amounts of grant funds and other contributions needed for each task. For more information on application requirements, see 7 CFR 4284.638.

IV. Application and Submission Information

A. Address To Request Application Package

For further information, you should contact your respective Rural Development State Office. Instructions for identifying Rural Development State Offices can be found in the ADDRESSES section of this Notice. Program information may also be obtained at: http://www.rurdev.usda.gov/bcp_rbog.html.

B. Form of Submission

You may submit their application in paper form or electronically. If you submit an application in paper form, any forms requiring signatures must include an original signature.

To submit an application electronically, you must use the Grants.gov Web site at: http://www.grants.gov. You may not submit an application electronically in any way other than through Grants.gov.

• When you enter the Grants.gov Web site, you will find information about submitting an application electronically through the site, as well as the hours of operation.

• To use Grants.gov, you must have a Dun and Bradstreet Data Universal Numbering System (DUNS) number, which can be obtained at no cost via a toll-free request line at (866) 705-5711. We strongly recommend that you do not wait until the application deadline date to begin the application process through Grants.gov.

• Before submitting an application, you must also be registered and maintain registration in SAM (formerly the CCR database). (See 2 CFR part 25.) You may register in SAM at https://www.sam.gov/portal/public/SAM/.

• You must submit all of your application documents electronically through Grants.gov.

• After electronically submitting an application through Grants.gov, you will receive an automatic acknowledgement from Grants.gov that contains a Grants.gov tracking number.

• You may be required to provide original signatures on forms at a later date.

• You can locate the Grants.gov downloadable application package for this program by using a keyword, the program name, the Catalog of Federal Domestic Assistance Number, or the Funding Opportunity Number.

C. Application Contents

An application must contain all of the required forms and application elements described in 7 CFR 4284.638 and as otherwise clarified in this Notice. Further clarification of application form requirements is as follows:

1. Standard Form (SF) 424, “Application for Federal Assistance.” Your DUNS number should be identified in the “Organizational DUNS” field. Additionally, you must provide a Commercial and Government Entity (CAGE) code and expiration date. Because there are no specific fields for a CAGE code and expiration date, you may identify them anywhere you want to on the form. If you do not include the CAGE code and expiration date and the DUNS number in your application, it will not be considered for funding.

2. You must complete Form AD-3030, “Representations Regarding Felony Conviction and Tax Delinquent Status for Corporate Applicants,” if you are a corporation. A corporation is any entity that has filed articles of incorporation in one of the 50 States, the District of Columbia, or the various territories of the United States including American Samoa, Federated States of Micronesia, Guam, Midway Islands, Northern Mariana Islands, Puerto Rico, Republic of Palau, Republic of the Marshall Islands, or the U.S. Virgin Islands. Corporations include both for profit and non-profit entities.

D. Submission Date and Time

Application Deadline date: For electronic applications, the deadline date is June 24, 2013. For paper applications, the deadline date is June 28, 2013. Please note that if you are applying for Partnership funds, your application must be received prior to the June 30, 2013, reservation of funds deadline date.

Explanation of Deadlines: Complete paper applications must be in the Rural Development State Office by the deadline date, close of business. Electronic applications submitted through Grants.gov will be accepted by the system through midnight eastern time on the deadline date.

E. Intergovernmental Review

Executive Order (EO) 12372, “Intergovernmental Review of Federal Programs,” applies to this program. This EO requires that Federal agencies provide opportunities for consultation on proposed assistance with State and local governments. Many States have established a Single Point of Contact (SPOC) to facilitate this consultation. For a list of States that maintain a SPOC, please see the White House Web site: http://www.whitehouse.gov/omb/grants_spoc. If your State has a SPOC, you may submit a copy of the application directly for review. Any comments obtained through the SPOC must be provided to your Rural Development State Office for consideration as part of your application. If your State has not established a SPOC, or if you do not want to submit a copy of your application, our State Office will submit your application to the SPOC or other appropriate agency or agencies.

F. Environmental Review

Applications for financial assistance are subject to an environmental review. However, if an application is for technical assistance or planning purposes, it is generally excluded from the environmental review process (See 7 CFR 1940.310(e)(1)). We will ensure that any required environmental review is completed prior to approval of an application or obligation of funds.

V. Application Review Information

We will review each application to determine if it is eligible for assistance based on the requirements in 7 CFR part 4284, subpart G as well as other applicable Federal regulations. Eligible applications will be initially scored by the USDA Rural Development State Offices and submitted to the National Office for final review and selection. Applications will be funded in rank order.

You must address each selection criterion outlined in 7 CFR 4284.639 in your application. Any criterion not substantively addressed will receive zero points.

To assist you with addressing each criterion, we are providing what we consider to be necessary documentation along with an explanation of how we will score each criterion below.

1. Sustainability of Economic Development (7 CFR 4284.639(a)). You must identify the economic development (see 7 CFR 4284.603 for a definition) that will occur as a result of their project and describe how that development will be sustainable without any assistance from governments (including local, State, and Federal) or other organizations outside the community. Sustainability may include, but is not limited to, user fees or a continuing source of funds from a community organization. we will score the criterion as follows:

• 0 points if you do not identify at least one type of economic development.

• 1-2 points if you identify at least one type of economic development, but are unable to reasonably quantify it or demonstrate sustainability.

• 3-4 points if you identify at least one type of economic development and reasonably quantify it.

• 5-6 points if you identify at least one type of economic development, reasonably quantify it, and demonstrate that it can be sustained for at least 1 year after the completion of the project through user fees, community organization support, or other non-governmental methods.

• 7-8 points if you identify at least one type of economic development, reasonably quantify it, and demonstrate that it can be sustained for at least 3 years after the completion of the project through user fees, community organization support, or other non-governmental methods.

• 9-10 points if you identify at least one type of economic development, reasonably quantify it, and demonstrate that it can be sustained for at least 5 years after the completion of the project through user fees, community organization support, or other non-governmental methods.

2. Improvements in the Quality of Economic Activity (7 CFR 4284.639(b)). You must quantitatively describe how your project will improve the economic activity in your service area through higher wages, improved benefits, greater career potential, and/or the use of higher level skills than are currently typical. We will score the criterion as follows:

• 0 points if you do not quantitatively describe at least one way your project will improve the economic activity in your service area.

• 1-2 points if you quantitatively describe one way your project will improve the economic activity in your service area.

• 3-4 points if you quantitatively describe two ways your project will improve the economic activity in your service area.

• 5-6 points if you quantitatively describe three ways your project will improve the economic activity in your service area.

• 7-8 points if you quantitatively describe four ways your project will improve the economic activity in your service area.

• 9-10 points if your quantitatively describe five or more ways your project will improve the economic activity in your service area.

3. Other Contributions (7 CFR 4284.639(c)). You must provide documentation indicating who will be providing the other source of funds, the amount of funds, when those funds will be provided, and how the funds will be used in the project budget. Examples of acceptable documentation include: A signed letter from the source of funds stating the amount of funds, when the funds will be provided, and what the funds can be used for or a signed resolution from your governing board authorizing the use of a specified amount of funds for specific components of the project. The other contributions you identify must be specifically dedicated to the project and cannot include your organization's general operating budget. No credit will be given for in-kind donations of time, goods, and/or services from any organization, including the applicant organization. If you choose, you may use a template to summarize the other contributions. The template is available either from your Rural Development State Office or the program Web site at: http://www.rurdev.usda.gov/bcp_rbog.html. We will score the criterion as follows:

• 0 points if your other contributions total 25 percent or less of the total project cost.

• 10 points if your other contributions are greater than 25 and 50 percent of the total project cost.

• 20 points if your other contributions are more than 50 percent and less than or equal to 80 percent of the total project cost.

• 30 points if your other contributions are more than 80 percent of the total project cost.

4. Major Natural Disaster (7 CFR 4284.639(d)(1)). You must provide a Federal Emergency Management Agency (FEMA) disaster reference number or USDA disaster declaration date and description for any disasters that occurred within 3 years of the application deadline in the counties in the project service area. We will award 15 points if a FEMA disaster reference number or USDA disaster declaration date and description is provided for the majority of the counties in an applicant's service area; otherwise we will award 0 points.

5. Fundamental Structural Change (7 CFR 4284.639(d)(2)). You must describe a structural change (for example, the loss of major employer or closing of a military base) that occurred within or affected one or more of the counties in the project service area. The structural change must have occurred within the 3 years prior to submitting your application. We will award 15 points if the structural change affected the majority of the counties in your service area and if it caused the loss of at least 100 jobs; otherwise the Agency will award 0 points.

6. Long-Term Poverty (7 CFR 4284.639(d)(3)). You must provide the percentage of residents living below the poverty level from the 1990 and the 2010 decennial censuses for all counties and all States in the service area. If you need assistance locating the census information, you should contact your Rural Development State Office. We will award 10 points if the majority of counties in the service area have a percentage of residents living below that poverty level that is above the state percentage in both the 1990 and the 2010 censuses; otherwise we will award 0 points.

7. Long-Term Population Decline (7 CFR 4284.639(d)(4)). You must provide population statistics from the 1990 and the 2010 decennial censuses for all counties in the service area. If you need assistance locating the census information, you should contact your Rural Development State Office. We will award 10 points if the majority of the counties in the service area experienced a net loss of population between 1990 and 2010; otherwise we will award 0 points.

8. Long-Term Job Deterioration (7 CFR 4284.639(d)(5)). You must provide the unemployment rate from the 1990 and 2010 decennial censuses for all counties in the service area. If you need assistance locating the census information, you should contact your Rural Development State Office. We will award 10 points if the majority of counties in the service area experienced an increase in the unemployment rate between 1990 and 2010; otherwise we will award 0 points.

9. Best Practices (7 CFR 4284.639(e)). You must describe how your project could be replicated, including any potentially necessary modifications, in other communities or service areas. We will score the criterion as follows:

• 0 points if your project could not be replicated.

• 1-3 points if your project could be replicated in another community, but with substantial modifications.

• 4-6 points if your project could be replicated in another community, but with moderate modifications.

• 7-10 points if your project could be replicated in another community, with minimal modifications.

10. Discretionary Points (7 CFR 4284.639(f)). If you wish to be considered for discretionary points, your application must include a description of the following:

• The project service area, and/or

• The special importance for implementation of a regional strategic plan in partnership with other organizations, and/or

• The extraordinary potential for success of the project due to superior project plans or qualifications of your organization, including the key personnel for the project.

Applications can receive discretionary points from either the State Director or the Administrator, but not both. Because awarding these points is completely at the option of the State Director or the Administrator, no additional point break down can be provided.

To Be Competitive for IMCP Funded Implementation Strategies

Successful projects will be regional in scope and focus on manufacturing sectors that demonstrate comparative advantages in the marketplace. To compete for IMCP, applications should emphasize some combination of public-private and higher education collaboration. In addition, they will target investments that help stakeholders within a region to collaborate and build on existing regional assets to create a supportive regional economic ecosystem for business investment and innovation, creation of good jobs, and improved quality of life. Regions are geographic areas, which need not be contiguous or defined by political boundaries, which are capable of undertaking self-sustained economic development.

For the first phase of IMCP in FY 2013, applicants should focus on identifying targeted industries, and specific public investments that will enhance the attractiveness of regions to private investment. Competitive applications will demonstrate the following in the project narrative:

(1) A detailed assessment of the local industrial ecosystem as it currently exists and a path to development that could make a region uniquely competitive. The assessment could address how a strategy will capitalize on—intermediaries of various types, industry specialization and competitiveness in international investment and trade, workforce development programs, site availability, research centers, industrial consortia, transportation networks, energy projects to reduce business operational costs, and alliances to bolster supply chain networks and support small businesses.

(2) Plans for leveraging the region's existing assets and comparative advantages to build on or develop public private partnerships and local manufacturing capabilities. These plans should include how the strategy will sustain the ecosystem long after the federal award. If the region has or is developing an economic development strategy or a plan for regional growth and revitalization, the plan and the way in which manufacturing will factor into the success of that plan should be described.

(3) How funds from this award would be employed to directly fund one or several aspects of the plan described and #2. Allowable activities under the grants may include, but are not limited to:

• A regional strategy that expands, strengthens, enhances and advances manufacturing in a specific industry, with a particular focus on the attraction of significant private sector investment in manufacturing communities. This could be based on the manufacturing and private sector investment attraction objectives included in a current comprehensive economic development strategy, or other regional strategy, and further refine the strategy by developing specific action plans, partnerships, networks, that are critical to the development of a manufacturing ecosystem;

• A regional action/implementation initiative that fulfills the manufacturing and private sector investment attraction objectives of an already existing regional economic development strategy. This may include specific non-construction implementation initiatives that benefit the region's manufacturing ecosystem; or,

• A combination of the above.

VI. Award Administration Information

A. Award Notices

If an application is successful, you will receive notification regarding funding from the Rural Development State Office where the application was submitted. You must comply with all applicable statutes and regulations before the grant award will be approved. If your application is not successful, you will receive notification by mail.

All adverse determinations regarding applicant eligibility and the awarding of points as part of the selection process are appealable (see 7 CFR part 11). Instructions on the appeal process will be provided at the time an applicant is notified of the adverse decision.

B. Administrative and National Policy Requirements

Additional requirements that apply to grantees selected for this program can be found in 7 CFR part 4284, subparts A and G, parts 3015, 3016, 3019, 3052, and 2 CFR parts 215 and 417. All recipients of Federal financial assistance are required to comply with the Federal Funding Accountability and Transparency Act of 2006 and must report information about sub awards and executive compensation (see 2 CFR part 170). These recipients must also maintain their registration in SAM as long as their grants are active. So long as an applicant does not have an exception under 2 CFR 170.110(b), the applicant must have the necessary processes and systems in place to comply with the reporting requirements should the applicant receive funding (see 2 CFR 170.200(b)). These regulations may be obtained at http://www.gpoaccess.gov/cfr/index.html.

The following additional requirements apply to grantees selected for this program:

• Agency-approved Grant Agreement.

• Letter of Conditions.

• Form RD 1940-1, “Request for Obligation of Funds.”

• Form RD 1942-46, “Letter of Intent to Meet Conditions.”

• Form AD-1047, “Certification Regarding Debarment, Suspension, and Other Responsibility Matters-Primary Covered Transactions.”

• Form AD-1048, “Certification Regarding Debarment, Suspension, Ineligibility and Voluntary Exclusion-Lower Tier Covered Transactions.”

• Form AD-1049, “Certification Regarding a Drug-Free Workplace Requirement (Grants).”

• Form AD-3031, “Assurance Regarding Felony Conviction or Tax Delinquent Status for Corporate Applicants.”

• Form RD 400-4, “Assurance Agreement.”

• SF LLL, “Disclosure of Lobbying Activities,” if applicable.

VII. Agency Contacts

If you have questions about this Notice, please contact the Rural Development State Office located in your State as identified in the ADDRESSES section of this notice.

VIII. Nondiscrimination Statement

Non-Discrimination Policy

USDA prohibits discrimination against its customers, employees, and applicants for employment on the bases of race, color, national origin, age, disability, sex, gender identify, religion, reprisal, and where applicable, political beliefs, marital status, familial or parental status, sexual orientation, or all or part of an individual's income is derived from any public assistance program, or protected genetic information in employment or in any program or activity conducted or funded by the Department. (Not all prohibited bases will apply to all programs and/or employment activities.)

To File a Program Complaint

If you wish to file a Civil Rights program complaint of discrimination, complete the USDA Program Discrimination Complaint Form (PDF), found online at http://www.ascr.usda.gov/complain_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Persons With Disabilities

Individuals who are deaf, hard of hearing or have speech disabilities and who wish to file either an EEO or program complaint, please contact USDA through the Federal Relay Service at (800) 877-8339 or (800) 845-6136 (in Spanish).

Persons with disabilities who wish to file a program complaint, please see information above on how to contact us by mail directly or by email. If you require alternative means of communication for program information (e.g., Braille, large print, audiotape, etc.), please contact USDA's TARGET Center at (202) 720-2600 (voice and TDD).

Dated: May 9, 2013.
Lillian Salerno,
Acting Administrator, Rural Business-Cooperative Service.

[FR Doc. 2013-11451 Filed 5-13-13; 8:45 am]

BILLING CODE 3410-XY-P